DEPARTMENT OF JUSTICE

Antitrust Division

Notice Pursuant to the National Cooperative Research and Production Act of 1993—Decentralized Storage Alliance Association

Notice is hereby given that, on August 1, 2023, pursuant to section 6(a) of the National Cooperative Research and Production Act of 1993, 15 U.S.C. 4301 et seq. (“the Act”), Decentralized Storage Alliance Association (“DSAA”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Protocol Labs, Inc., Wilmington, DE; Filecoin Foundation, Middletown, DE; PiKNiK & Company, San Diego, CA; and International Computer Concepts, Inc., Northbrook, IL. The general area of DSAA's planned activity is to (a) develop and promote decentralized storage technologies and protocols and (b) undertake such other activities as may from time to time be appropriate to further the purposes and achieve the goals set forth above.

Membership in DSAA remains open and DSAA intends to file additional written notifications disclosing all changes in membership.

Suzanne Morris,
Deputy Director Civil Enforcement Operations, Antitrust Division.

[FR Doc. 2023-22246 Filed 10-5-23; 8:45 am]

BILLING CODE P